DEPARTMENT OF HEALTH AND HUMAN SERVICES

Administration for Children and Families

[OMB #: 0970-0542]

Proposed Information Collection Activity; Domestic Victims of Human Trafficking Program Data

AGENCY: Office on Trafficking in Persons, Administration for Children and Families, Department of Health and Human Services.

ACTION: Request for public comments.

SUMMARY: The Office on Trafficking in Persons (OTIP), Administration for Children and Families (ACF), U.S. Department of Health and Human Services (HHS), is requesting an extension of approval with revisions of an Office of Management and Budget (OMB) approved information collection: Domestic Victims of Human Trafficking (DVHT) Program Data (OMB #0970-0542; expiration date 2/28/2026).

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Trafficking Victims Protection Act of 2000 (TVPA), as amended, authorizes the HHS Secretary to expand benefits and services to victims of severe forms of trafficking in persons in the United States without regard to their immigration status. The TVPA also authorizes HHS to establish and strengthen programs to assist U.S. citizens and lawful permanent residents who have experienced sex trafficking or severe forms of trafficking in persons (22 U.S.C. 7105(f)(1)). Acting under a delegation of authority from the Secretary of HHS, ACF awards cooperative agreements to organizations to assist U.S. citizens and lawful permanent residents who have experienced human trafficking, the DVHT Program. The DVHT Program includes two distinct programs: the Domestic Victims of Human Trafficking Services and Outreach Program (DVHT-SO) and the Victims of Human Trafficking in Native Communities Demonstration Program (VHT-NC). Through the DVHT Program, grant recipients provide comprehensive case management to domestic survivors of human trafficking in traditional case management and Native community settings.

OTIP proposes to continue to collect information to measure grant project performance, provide technical assistance to grant recipients, assess program outcomes, inform program evaluation, respond to congressional inquiries and mandated reports, and inform policy and program development that is responsive to the needs of victims.

The information collection captures information on participant demographics (e.g., age, sex, type of trafficking experienced, service location) and services provided, along with aggregate information on outreach activities conducted, subrecipients enrolled, and dollars spent per service. Minor nonsubstantive updates have been made to performance indicators under this collection to simplify response options or to bring the collection into alignment with OTIP's grant recipient reporting database, the Anti-Trafficking Information Management System (ATIMS). Additionally, certain data element response options that do not pertain to OTIP's domestic victim service programs were removed (e.g., Refugee Cash Assistance, Refugee Medical Assistance, Refugee Social Services). Additionally, certain data elements have been simplified for respondent clarity.

Respondents: DVHT Program grant recipients and clients of those programs, specifically DVHT-SO and VHT-NC funding recipients.

Annual Burden Estimates

Based on review of performance data received pertaining to the number of clients served through DVHT programs and funding levels, the total number of respondents for each form has been lowered. The time to complete each form remains the same.

Instrument | Total number of respondents | Total number of responses per respondent | Average burden hours per response | Total burden hours | Annual burden hours
Client Characteristics and Program Entry | 900 | 1 | 0.75 | 675 | 225
Client Case Closure | 900 | 1 | 0.167 | 150.3 | 50.1
Barriers to Service Delivery and Monitoring | 35 | 4 | 0.167 | 23.4 | 7.8
Client Service Use and Delivery | 900 | 1 | 0.25 | 225 | 75
Client Outreach | 35 | 4 | 0.3 | 42 | 14
Subrecipient Enrollment | 35 | 3 | 0.167 | 17.5 | 5.8
Client Service Costs | 35 | 1 | 0.75 | 26.25 | 8.75

Estimated Total Annual Burden Hours: 386.45.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 22 U.S.C. 7105

Mary C. Jones,
ACF/OPRE Certifying Officer.

[FR Doc. 2025-13455 Filed 7-16-25; 8:45 am]

BILLING CODE 4184-47-P